DEPARTMENT OF TRANSPORTATION

Federal Aviation Administration

14 CFR Part 39

[Docket No. FAA-2007-26857; Directorate Identifier 2006-NM-126-AD]

RIN 2120-AA64

Airworthiness Directives; Airbus Model A310 Series Airplanes

AGENCY: Federal Aviation Administration (FAA), Department of Transportation (DOT).

ACTION: Notice of proposed rulemaking (NPRM).

SUMMARY: The FAA proposes to supersede an existing airworthiness directive (AD) that applies to all Airbus Model A310 series airplanes. The existing AD currently requires inspections of the lower door surrounding structure to detect cracks and corrosion; inspections to detect cracking of the holes of the corner doublers, the fail-safe ring, and the door frames of the door structures; and repair if necessary. The existing AD also provides for optional terminating action for certain inspections. This proposed AD would retain all requirements of the existing AD, mandate the previously optional terminating action, and reduce the applicability of the existing AD. This proposed AD results from a determination that further rulemaking is necessary to improve the fatigue behavior of the cabin door surroundings. We are proposing this AD to prevent corrosion between the scuff plates at exit and cargo doors and fatigue cracks originating from certain fastener holes located in adjacent structure, which could result in reduced structural integrity of the door surroundings.

DATES: We must receive comments on this proposed AD by February 20, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “Docket No. FAA-2007-26857; Directorate Identifier 2006-NM-126-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On July 24, 1998, we issued AD 98-16-06, amendment 39-10682 (63 FR 40819, July 31, 1998), for all Airbus Model A310 series airplanes. That AD requires inspections of the lower door surrounding structure to detect cracks and corrosion; inspections to detect cracking of the holes of the corner doublers, the fail-safe ring, and the door frames of the door structures; and repair if necessary. That AD also provides for optional terminating action for certain inspections. That AD resulted from reports indicating that corrosion was found between the scuff plates at exit and cargo doors, and fatigue cracks originated from certain fastener holes located in adjacent structure. We issued that AD to detect and correct such corrosion and fatigue cracking, which could result in reduced structural integrity of the door surroundings.

Other Relevant Rulemaking

We have previously issued AD 97-11-03, amendment 39-10032 (62 FR 28325, May 23, 1997), applicable to all Airbus Model A300 series airplanes. That AD requires inspections of the lower door surrounding structure to detect cracks and corrosion; inspections to detect cracking of the holes of the corner doublers, the fail-safe ring, and the door frames of the door structures; and repair if necessary. That AD also requires modification of the passenger/crew door frames, which terminates certain inspections.

We also previously issued AD 98-16-05, amendment 39-10680 (63 FR 40812, July 31, 1998), applicable to all Airbus Model A300-600 series airplanes. That AD requires inspections of the areas behind the scuff plates below the passenger/crew doors and bulk cargo door to detect cracks and corrosion; inspections to detect cracking of the holes of the corner doublers, the fail-safe ring, and the door frames of the door structures; and repair if necessary. In addition, that AD provides for an optional terminating action for certain inspections. We are considering further rulemaking to mandate the optional terminating action.

Actions Since Existing AD Was Issued

Since we issued AD 98-16-06, the Direction Générale de l'Aviation Civile (DGAC), which is the airworthiness authority for France, issued French airworthiness directives 1991-132-124(B) R1, dated November 29, 2000 (to replace French airworthiness directive 91-132-124(B), dated June 26, 1992, which is referred to in AD 98-16-06), and F-2004-103, dated July 7, 2004. The DGAC advises that further rulemaking is necessary to improve the fatigue behavior of the cabin door surroundings on certain Airbus Model A310 series airplanes and to remove certain airplanes from the applicability of the existing French airworthiness directive 91-132-124(B) that are no longer subject to the existing requirements. Corrosion between the scuff plates at exit and cargo doors and fatigue cracks originating from certain fastener holes located in adjacent structure, if not corrected, could result in reduced structural integrity of the door surroundings.

After the DGAC issued French airworthiness directive 1991-132-124(B) R1 on November 29, 2000, we determined at that time that further rulemaking was not necessary, because the changes to AD 98-16-06 would be relieving in nature. However, since French airworthiness directive F-2004-103 mandates the previously optional modification, we now agree with the DGAC that further rulemaking is indeed necessary to improve the fatigue behavior of the cabin door surroundings, and this proposed AD follows from that determination.

Relevant Service Information

Airbus has issued and revised the service bulletins in the following table:

Service Bulletins
Airbus Service Bulletin— | Describes procedures for—
A310-53-2030, Revision 06, dated July 2, 1996 (Revision 5 of the service bulletin was referenced in AD 98-16-06 as an appropriate source of service information) | Doing initial inspections for cracks and corrosion of the areas behind the scuff plates below the passenger/crew doors and bulk cargo door, and repairing any cracked or corroded part. The inspection and repair are essentially identical to those specified in Revisions 2 through 5 of the service bulletin.
A310-53-2037, Revision 02, dated November 27, 2000 (Revision 1 of the service bulletin was referenced in AD 98-16-06 as an appropriate source of service information) | Doing repetitive inspections for cracks of the holes of the corner doublers, the fail-safe ring, and the door frames of the passenger/crew door structures, and repairing any cracked part. The inspection and repair are essentially identical to those specified in Revision 1 of the service bulletin.
A310-53-2017, Revision 09, dated May 17, 2004 (Revision 7 of the service bulletin was referenced in AD 98-16-06 as an appropriate source of service information) | Modifying the passenger/crew door structures, which ends the repetitive inspections of the holes of the corner doublers specified in Airbus Service Bulletin A310-53-2037, the fail-safe ring, and the door frames for certain airplanes. The modification includes cold expansion of fastener holes; a ROTO test; installation of new oversize fasteners and modified brackets; and installation of an additional steel doubler. The modification is essentially identical to that specified in Revisions 7 and 08 of the service bulletin.

In addition, Airbus previously issued Service Bulletin A310-53-2041, Revision 02, dated July 2, 1996 (which was referenced in AD 98-16-06 as an appropriate source of service information). The service bulletin describes procedures for doing repetitive inspections for cracks and corrosion of the areas behind the scuff plates below the passenger/crew doors and bulk cargo door, and repairing any cracked or corroded part.

Accomplishing the actions specified in the service information is intended to adequately address the unsafe condition. The DGAC mandated the service information to ensure the continued airworthiness of these airplanes in France.

FAA's Determination and Requirements of the Proposed AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 98-16-06 and would retain the requirements of the existing AD. This proposed AD would also require accomplishing the actions specified in service information described previously.

Difference Between French Airworthiness Directives and This Proposed AD

The applicability of French airworthiness directives 1991-132-124(B) R1 and F-2004-103 exclude airplanes on which Airbus Service Bulletin A310-53-2017 at Revision 1 (or any other later approved revision) has been done in service. However, we have not excluded those airplanes in the applicability of this proposed AD; rather, this proposed AD includes a requirement to accomplish the actions specified in Revision 09 of that service bulletin. This requirement would ensure that the actions specified in the service bulletin and required by this proposed AD are accomplished on all affected airplanes. Operators must continue to operate the airplane in the configuration required by this proposed AD unless an alternative method of compliance is approved.

Change to Existing AD

This proposed AD would retain all requirements of AD 98-16-06. Since AD 98-16-06 was issued, the AD format has been revised, and certain paragraphs and a note have been rearranged. As a result, the corresponding paragraph identifiers have changed in this proposed AD, as listed in the following table:

Revised Paragraph Identifiers
Paragraphs and note in AD 98-16-06 | Corresponding paragraphs in this proposed AD
Paragraph (a) | Paragraph (f).
Paragraph (b) | Paragraph (g).
Paragraph (c) | Paragraph (h).
Paragraph (d) | Paragraph (i).
NOTE 2 | Paragraph (j).
Paragraph (e) | Paragraph (k).
Paragraph (f) | Paragraph (l).
Paragraph (g) | Paragraph (m).
Paragraph (h) | Paragraph (o).

The DGAC revised the applicability of French airworthiness directives 1991-132-124(B) R1 and F-2004-103 to exclude Model A310 series airplanes on which Airbus Modification 5068, 7201, and 7298 have been incorporated in production. Therefore, the applicability of the proposed AD parallels the French airworthiness directives in that regard.

We have revised the affected airplanes in paragraphs (f)(1) through (f)(3) of this proposed AD (paragraphs (a)(1) through (a)(3) of AD 98-16-06) to include “and Modification 5382D4741 for all other doors.” This information is specified in the referenced service bulletin, but was inadvertently omitted from those paragraphs in AD 98-16-06. This change reduces the number of affected airplanes.

Costs of Compliance

The following table provides the estimated costs for U.S. operators to comply with this proposed AD. The average labor rate per work hour is $80.

Estimated Costs
Action | Work hours | Parts | Cost per airplane | Number of U.S.-registered airplanes | Fleet cost
Repetitive inspections behind scuff plates (required by AD 98-16-06) | 26 | None | $2,080 | 46 | $95,680.
Repetitive inspections of corner doublers, fail-safe ring, and door frames (required by AD 98-16-06) | Between 4 and 100 depending on kit purchased | None | Between $320 and $8,000 | 46 | Between $14,720, and $368,000 per inspection cycle.
Terminating modification for repetitive inspection of corner doublers, fail-safe ring, and door frames | Between 8 and 55 depending on kit purchased | Between $506 and $6,098 depending on kit purchased | Between $1,146 and $10,498 | 46 | Between $52,716 and $482,908.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10682 (63 FR 40819, July 31, 1998) and adding the following new airworthiness directive (AD):

Airbus: Docket No. FAA-2007-26857; Directorate Identifier 2006-NM-126-AD.

Comments Due Date

(a) The FAA must receive comments on this AD action by February 20, 2007.

Affected ADs

(b) This AD supersedes AD 98-16-06.

Applicability

(c) This AD applies to Airbus Model A310 series airplanes; certificated in any category; excluding those airplanes on which Airbus Modification 5068, 7201, and 7298 have been incorporated in production.

Unsafe Condition

(d) This AD results from a determination that further rulemaking is necessary to improve the fatigue behavior of the cabin door surroundings. We are issuing this AD to prevent corrosion between the scuff plates at exit and cargo doors and fatigue cracks originating from certain fastener holes located in adjacent structure, which could result in reduced structural integrity of the door surroundings.

Compliance

(e) You are responsible for having the actions required by this AD performed within the compliance times specified, unless the actions have already been done.

Requirements of AD 98-16-06

Initial Inspection Behind Scuff Plates and Repair If Necessary With Revised Affected Doors

(f) Perform an initial inspection of the areas behind the scuff plates below the passenger/crew doors and bulk cargo door to detect cracks and corrosion, in accordance with Airbus Service Bulletin A310-53-2030, Revision 5, dated March 6, 1991, at the applicable time specified in paragraph (f)(1), (f)(2), or (f)(3) of this AD. If any crack or corrosion is found during this inspection, prior to further flight, repair in accordance with the service bulletin. Accomplishment of this inspection is not required for the aft passenger/crew doors if a steel doubler that covers the entire inspection area is installed.

(1) For any door on which Modification 5382 and Modification 5382D4741 for all other doors have been accomplished: Perform the initial inspection within 9 years since airplane manufacture, or within 1 year after September 4, 1998 (the effective date of AD 98-16-06), whichever occurs later.

(2) For any door on which Modification 5382 and Modification 5382D4741 for all other doors have not been accomplished, and on which the procedures described in Airbus Service Bulletin A310-53-2004, Revision 2, dated June 17, 1985, or Airbus Service Information Letter 53-033, Revision 2, dated November 23, 1984, have been accomplished: Perform the initial inspection within 5 years since airplane manufacture, or within 1 year after September 4, 1998, whichever occurs later.

(3) For any door on which Modification 5382 and Modification 5382D4741 for all other doors have not been accomplished, and on which the procedures described in Airbus Service Bulletin A310-53-2004, Revision 2, dated June 17, 1985, or Airbus Service Information Letter 53-033, Revision 2, dated November 23, 1984, have not been accomplished: Perform the initial inspection within 4 years since airplane manufacture, or within 1 year after September 4, 1998, whichever occurs later.

Repetitive Inspections Behind Scuff Plates

(g) Perform repetitive inspections of the areas behind the scuff plates below the passenger/crew doors and bulk cargo door to detect cracks and corrosion, in accordance with Airbus Service Bulletin A310-53-2041, Revision 02, dated July 2, 1996, at the applicable times specified in paragraphs (g)(1), (g)(2), and (g)(3) of this AD. Accomplishment of these inspections is not required for the aft passenger/crew doors if a steel doubler that covers the entire inspection area is installed.

(1) For the forward passenger/crew doors, the bulk cargo door, and the aft passenger/crew doors, except the upper and lower edges of the fail-safe ring and the upper edges of the corner doubler, on all Model A310-200 and -300 series airplanes: Perform the first inspection within 5 years after accomplishing the inspection required by paragraph (f) of this AD; and repeat the inspection thereafter at intervals not to exceed 5 years.

(2) For the upper and lower edges of the fail-safe ring and the upper edges of the corner doubler of the aft passenger/crew door on all Model A310-200 series airplanes: Perform the first inspection within 5 years or 12,000 landings after accomplishing the inspection required by paragraph (f) of this AD, whichever occurs first; and repeat the inspection thereafter at intervals not to exceed 5 years or 12,000 landings, whichever occurs first.

(3) For the upper and lower edges of the fail-safe ring and the upper edges of the corner doubler of the aft passenger/crew door on all Model A310-300 series airplanes: Perform the first inspection within 5 years or 7,000 landings after accomplishing the inspection required by paragraph (f) of this AD, whichever occurs first; and repeat the inspection thereafter at intervals not to exceed 5 years or 7,000 landings, whichever occurs first.

Repair of Scuff Plates If Necessary

(h) If any crack is found during any inspection required by paragraph (g) or (n) of this AD, prior to further flight, repair in accordance with Airbus Service Bulletin A310-53-2041, Revision 02, dated July 2, 1996. Thereafter, perform the repetitive inspections required by paragraph (g) of this AD at the applicable times specified in paragraphs (g)(1), (g)(2), and (g)(3) of this AD.

(i) If any corrosion is found during any inspection required by paragraph (g) of this AD, prior to further flight, repair in accordance with Airbus Service Bulletin A310-53-2041, Revision 02, dated July 2, 1996. Thereafter, perform the repetitive inspections required by paragraph (g) of this AD at the applicable time specified in paragraph (i)(1) or (i)(2) of this AD.

(1) For Model A310-200 series airplanes: Inspect at intervals not to exceed 5 years or 9,600 landings, whichever occurs first.

(2) For Model A310-300 series airplanes: Inspect at intervals not to exceed 5 years or 5,600 landings, whichever occurs first.

(j) Accomplishment of the actions required by paragraph (g), (h), or (i) of this AD in accordance with Airbus Service Bulletin A310-53-2041, dated December 5, 1990; or Revision 1, dated March 6, 1991, prior to September 4, 1998, is acceptable for compliance with that paragraph.

Initial Inspection of Corner Doublers, Fail-Safe Ring, and Door Frames

(k) Perform an inspection to detect cracking of the holes of the corner doublers, the fail-safe ring, and the door frames of the left- and right-hand forward, mid, and aft passenger/crew door structures, in accordance with Airbus Service Bulletin A310-53-2037, Revision 1, dated April 29, 1992, and at the applicable times specified in paragraphs (k)(1), (k)(2), and (k)(3) of this AD.

(1) For the upper corners of the forward doors: Inspect prior to the accumulation of 20,000 total landings, or within 2,000 landings after September 4, 1998, whichever occurs later.

(2) For the lower corners of the forward doors: Inspect prior to the accumulation of 20,000 total landings, or within 4,000 landings after September 4, 1998, whichever occurs later.

(3) For the upper and lower corners of the aft doors, and for the parts underneath the corners of the upper door frames: Inspect prior to the accumulation of 20,000 total landings, or within 4,000 landings after September 4, 1998, whichever occurs later.

Repetitive Inspections of Corner Doublers, Fail-Safe Ring, and Door Frames

(l) Repeat the inspections required by paragraph (k) of this AD at the applicable times specified in paragraphs (l)(1), (l)(2), (l)(3), (l)(4), and (l)(5).

(1) For the upper corners of the forward doors: Inspect at intervals not to exceed 6,000 landings.

(2) For the lower corners of the forward doors: Inspect at intervals not to exceed 10,000 landings.

(3) For the upper and lower corners of the aft doors on which an inspection required by paragraph (k) of this AD was accomplished using a ROTO test technique: Inspect at intervals not to exceed 8,000 landings.

(4) For the upper and lower corners of the aft doors on which an inspection required by paragraph (k) of this AD was accomplished using an X-ray technique: Inspect at intervals not to exceed 3,500 landings.

(5) For the areas around the fasteners in the vicinity of stringer 12 on the upper door frames of the aft doors on which an inspection required by paragraph (k) of this AD was accomplished using a visual technique: Inspect at intervals not to exceed 6,900 landings.

Repair of Corner Doublers, Fail-Safe Ring, and/or Door Frames If Necessary

(m) If any crack is found during any inspection required by paragraph (k) or (l) of this AD: Prior to further flight, accomplish the requirement of paragraph (m)(1) or (m)(2) of this AD, as applicable.

(1) If any crack is found, and the crack can be eliminated using the method specified in Airbus Service Bulletin A310-53-2037, Revision 1, dated April 29, 1992; or Revision 02, dated November 27, 2000: Prior to further flight, repair the crack in accordance with that service bulletin.

(2) If any crack is found, and the crack cannot be eliminated using the method specified in Airbus Service Bulletin A310-53-2037, Revision 1, dated April 29, 1992; or Revision 02, dated November 27, 2000: Prior to further flight, repair the crack in accordance with a method approved by the Manager, International Branch, ANM-116, FAA, Transport Airplane Directorate.

New Requirements of This AD

New Revision of Service Bulletins

(n) As of the effective date of this AD, use only the service bulletin specified in Table 1 of this AD.

Table 1.—New Revision of Service Bulletins
Do the action(s) required by— | In accordance with the accomplishment instructions of Airbus Service Bulletin—
(1) Paragraph (f) of this AD | A310-53-2030, Revision 06, dated July 2, 1996.
(2) Paragraph (k) and (m)(1) of this AD | A310-53-2037, Revision 02, dated November 27, 2000.

Terminating Modification for Repetitive Inspection of Corner Doublers, Fail-Safe Ring, and Door Frames

(o) Modify the passenger/crew door structures in accordance with the Accomplishment Instructions of Airbus Service Bulletin A310-53-2017, Revision 09, dated May 17, 2004. Do the modification at the applicable time in paragraph (o)(1) or (o)(2) of Table 2 of this AD. Accomplishment of this modification constitutes terminating action for the repetitive inspections required by paragraph (l) of this AD. The inspections required by paragraph (f) of this AD must be done before accomplishing this modification.

Table 2.—Compliance Time for Terminating Modification
For model | Compliance time
(1) A310-203, -204, -221, and -222 airplanes | Before the accumulation of 40,000 flight cycles since the date of issuance of the original French standard Airworthiness Certificate or the date of issuance of the original French Export Certificate of Airworthiness, or during the next inspection required by paragraph (l) of this AD, whichever occurs later.
(2) A310-304, -322, -324, and -325 airplanes | Before the accumulation of 35,000 flight cycles since the date of issuance of the original French standard Airworthiness Certificate or the date of issuance of the original French Export Certificate of Airworthiness, or during the next inspection required by paragraph (l) of this AD, whichever occurs later

Earlier Revision of Service Bulletins

(p) Actions done before the effective date of this AD in accordance with the service bulletins identified in Table 3 of this AD, are acceptable for compliance with the corresponding requirements of this AD.

Table 3.—Earlier Revision of Service Bulletins
Airbus service bulletin | Revision level | Date
(1) A310-53-2017 | 7 | February 25, 1992.
(2) A310-53-2017 | 08 | September 7, 2000.

Alternative Methods of Compliance (AMOCs)

(q)(1) The Manager, International Branch, ANM-116, has the authority to approve AMOCs for this AD, if requested in accordance with the procedures found in 14 CFR 39.19.

(2) Alternative methods of compliance, approved previously in accordance with AD 98-16-06 are approved as alternative methods of compliance with the corresponding provisions of paragraphs (f) through (m) of this AD.

(3) Before using any AMOC approved in accordance with § 39.19 on any airplane to which the AMOC applies, notify the appropriate principal inspector in the FAA Flight Standards Certificate Holding District Office.

Related Information

(r) French airworthiness directives 1991-132-124(B) R1, dated November 29, 2000, and F-2004-103, dated July 7, 2004, also address the subject of this AD.

Issued in Renton, Washington, on January 8, 2007.
Ali Bahrami,
Manager, Transport Airplane Directorate, Aircraft Certification Service.

[FR Doc. E7-702 Filed 1-18-07; 8:45 am]

BILLING CODE 4910-13-P